DEPARTMENT OF AGRICULTURE

Natural Resources Conservation Service

7 CFR Part 652

Technical Service Provider Assistance: Correction

AGENCY: Natural Resources Conservation Service, USDA.

ACTION: Interim final rule; correction.

SUMMARY: The Natural Resources Conservation Service published in the Federal Register of March 24, 2003, a document concerning payment rates for technical service providers, and clarification of the Department's use of technical service providers. The dates paragraph was incorrect. This document corrects that paragraph.

DATES: This correction is effective on March 31, 2003.

FOR FURTHER INFORMATION CONTACT: Melissa Hammond, Technical Service Provider Coordinator, Strategic Natural Resource Issues Staff, NRCS, P.O. Box 2890, Washington, DC 20013-2890; telephone (202) 720-6731; fax: (202) 720-3052; submit e-mail to: gary.gross@usda.gov, Attention: Technical Service Provider Assistance.

SUPPLEMENTARY INFORMATION: The Natural Resources Conservation Service published a document in the Federal Register of March 24, 2003, (68 FR 14131) amending an interim rule published on November 21, 2002 (67 FR 70119). We intended to reopen the comment period on the November interim rule, but inadvertently omitted that reopening information. This corrects the error. On page 14131, in the second column, the dates paragraph is corrected to read as follows:

DATES: Effective date: March 31, 2003. Comments on this amendment must be received by June 30, 2003. In addition, the comment period for the Technical Service Provider Assistance Interim Final Rule published on November 21, 2002 (67 FR 70119) is hereby reopened. Comments must be received by April 30, 2003.

Dated: March 26, 2003.
Helen V. Huntington,
NRCS Federal Register Liaison.

[FR Doc. 03-7694 Filed 3-26-03; 3:46 pm]

BILLING CODE 3410-16-P